NATIONAL INSTITUTE FOR LITERACY

Notice of Closed Meeting

AGENCY: National Institute for Literacy (NIFL).

ACTION: Notice of closed meeting.

SUMMARY: This notice sets forth the schedule and proposed agenda of a forthcoming meeting of the National Institute for Literacy Board (Advisory Board). This notice also describes the function of the Advisory Board. Notice of this meeting is required under section 10(a)(2) of the Federal Advisory Committee Act (FACA). This document is intended to notify the general public of their opportunity to attend the meeting.

Date and Time: June 6, 2002 from 9 a.m. to 4:30 p.m.

ADDRESSES: National Institute for Literacy, 1775 I Street, NW., Suite 730, Washington, DC 20006.

FOR FURTHER INFORMATION CONTACT: Shelly Coles, Executive Assistant, National Institute for Literacy, 1775 I Street, NW., Suite 730, Washington, DC 20006. Telephone number (202) 233-2027, e-mail: scoles@nifl.gov.

SUPPLEMENTARY INFORMATION: The Advisory Board is established under the Workforce Investment Act of 1998, Title II of Pub. L. 105-220, Sec. 242, the National Institute for Literacy. The Advisory Board consists of ten individuals appointed by the President with the advice and consent of the Senate. The Advisory Board is established to advise and make recommendations to the Interagency Group, composed of the Secretaries of Education, Labor, and Health and Human Services, which administers the National Institute for Literacy (Institute). The Interagency Group considers the Advisory Board 's recommendations in planning the goals of the Institute and in the implementation of any programs to achieve the goals of the Institute. Specifically, the Advisory Board performs the following functions: (a) Makes recommendations concerning the appointment of the Director and the staff of the Institute; (b) provides independent advice on operation of the Institute; and (c) receives reports from the Interagency Group and Director of the Institute. In addition, the Institute consults with the Advisory Board on the award of fellowships. The National Institute for Literacy Advisory Board meeting on June 6, 2002, will focus on future and current NIFL program activities, and other relevant literacy activities and issues.

On June 6, 2002 from 1:30-2:30 p.m., the meeting will be closed to the public to discuss personnel issues of a sensitive nature relating to the internal personnel rules and practices of an agency and are likely to disclose information of personal nature where disclosure would constitute a clearly unwarranted invasion of personnel privacy if conducted in open session. Such matters are protected by exemption under the Sunshine Act, 5 U.S.C. 552b(c)(2) and (6). A summary of the activities at the closed session and related matters which are informative to the public and consistent with the policy of title 5 U.S.C. 552b will be available to the public within fourteen days of the meeting.

Furthermore, due to the sensitive nature of this request, this meeting notice will not meet the fifteen-day requirement under FACA.

Records are kept of all Advisory Board proceedings and are available for public inspection at the National Institute for Literacy, 1775 I Street, NW., Suite 730, Washington, DC 20006, from 8:30 a.m. to 5 p.m.

Dated: May 24, 2002.
Sharyn Abbott,
Executive Officer.

[FR Doc. 02-13582 Filed 5-29-02; 8:45 am]

BILLING CODE 6055-01-P